JUDICIAL REVIEW COMMISSION ON FOREIGN ASSET CONTROL

Review of Laws and Judicial Precedents Relating to the Blocking of Assets of Foreign Persons by the United States Government, and Examination and Evaluation of Remedies Available to United States Persons Affected by the Blocking of Such Assets

AGENCY: Judicial Review Commission on Foreign Asset Control.

ACTION: Scheduling of public hearings, and notice of opportunity to submit comments.

SUMMARY: The Judicial Review Commission on Foreign Asset Control (”Commission”) will hold public hearings in connection with its statutory mandate under the Foreign Narcotics Kingpin Designation Act (“Narcotics Kingpin Act”) on September 21-22 and October 2-3, 2000. Under the Narcotics Kingpin Act, the Commission is required to conduct “a review of the current judicial, regulatory, and administrative authorities relating to the blocking of assets of foreign persons by the United States Government,” and “a detailed examination and evaluation of the remedies available to United States persons affected by the blocking of assets of foreign persons by the United States Government.” In addition to the public hearings, the Commission invites interested parties to submit written statements regarding the matters under review by the Commission.

DATES: September 21-22 and October 2-3, 2000.

FOR FURTHER INFORMATION CONTACT: David H. Laufman, Staff Director & Deputy Chief Counsel, Judicial Review Commission on Foreign Asset Control, at (202) 305-1590, or by e-mail at david.laufman@usdoj.gov.

SUPPLEMENTARY INFORMATION:

Background

The Commission was established pursuant to Title VIII of the Foreign Narcotics Kingpin Designation Act (Pub. L. 106-120), which was enacted in December 1999 as part of the Intelligence Authorization Act for Fiscal Year 2000 (“Act”). Section 804 of the Act requires the President to publicly designate certain foreign persons as “significant foreign narcotics traffickers,” and section 805(b) of the Act requires the blocking of all property and interests in property owned or controlled by such designated traffickers and certain other foreign persons designated by the Secretary of the Treasury. In addition, section 805(c) of the Act prohibits “[a]ny transaction or dealing by a United States person, or within the United States, in property or interests in property of any significant narcotics trafficker * * * and foreign persons designated by the Secretary of the Treasury * * * ”

Of particular significance to the Commission's work is section 805(f) of the Act, which states that “[t]he determinations, identifications, findings and designations made pursuant to section 804 and subsection (b) of [section 805] shall not be subject to judicial review.” (Emphasis added.)

Under section 810(c) of the Act, the Commission is required to conduct (1) “a review of the current judicial, regulatory, and administrative authorities relating to the blocking of assets of foreign persons by the United States Government”; and (2) “a detailed examination and evaluation of the remedies available to United States persons affected by the blocking of assets of foreign persons by the United States Government.”

In addition to this statutory mandate, Congress instructed the Commission, in the Conference Report that accompanied final passage of the Act, “to examine and report on at least the following constitutional and other issues:

(1) Whether reasonable protections of innocent U.S. businesses are available under the regime currently in place that is utilized to carry out the provisions of the International Emergency Economic Powers Act (”IEEPA”);

(2) whether advance notice prior to blocking of one's assets is required as a matter of constitutional due process;

(3) whether there are reasonable opportunities under the current IEEPA regulatory regime and the Administrative Procedures Act for an erroneous blocking of assets or mistaken listing under IEEPA to be remedied;

(4) whether the level of proof that is required under the current judicial, regulatory, or administrative scheme is adequate to protect legitimate business interests from irreparable financial harm;

(5) whether there is constitutionally adequate accessibility to the courts to challenge agency actions under IEEPA, or the designation of persons or entities under IEEPA;

(6) whether there are remedial measures and legislative amendments that should be enacted to improve the current asset blocking scheme under IEEPA or [the Foreign Narcotics Kingpin Designation Act]; and

(7) whether the resources made available for the Office of Foreign Assets Control (“OFAC”) at the Department of Treasury in the fiscal year 2001 budget submission are adequate to carry out the provisions of this title or the other programs currently in effect under IEEPA.”

The Commission is required by statute to submit a final report to Congress by early December 2000.

Public Hearings

As part of the fact-finding undertaken to fulfill its legislative mandate, and pursuant to 21 U.S.C. 1908(d)(1), the Commission will hold public hearings on September 21-22 and October 2-3, 2000. The hearings on September 21 will be held in Room 2255 of the Rayburn House Office Building in Washington, D.C., located on Independence Avenue across from the U.S. Capitol, beginning at 9:30 a.m. The hearings on September 22 will be held in Room 2200 of the Rayburn House Office Building, beginning at 9:30 a.m. The hearings on October 2-3 will be held in Room 216 of the Senate Hart Office Building, located at 2nd St. and Constitution Avenue, N.E., Washington, DC, beginning at 9:30 a.m.

Written Submissions

Interested persons are invited to submit written statements concerning the matters before the Commission, which, in the Commission's discretion, may be included in its report to Congress. All written submissions should be submitted at the earliest practicable date but must be submitted by 5 p.m. on October 31, 2000. All submissions should be addressed to Larry D. Thompson, Chairman, Judicial Review Commission on Foreign Asset Control, Suite 700, 1331 F. St., NW., Washington, DC 20530.

David H. Laufman,
Staff Director & Deputy Chief Counsel.

[FR Doc. 00-23765 Filed 9-13-00; 8:45 am]

BILLING CODE 4410-AR-P